ENVIRONMENTAL PROTECTION AGENCY

[EPA-HQ-OPPT-2003-0004; FRL-9918-29]

Access to Confidential Business Information by Several Student Services Contractors

AGENCY: Environmental Protection Agency (EPA).

ACTION: Notice.

SUMMARY: EPA is continuing to authorize Student Services Contractors access to information which has been submitted to EPA under all sections of the Toxic Substances Control Act (TSCA). Some of the information may be claimed or determined to be Confidential Business Information (CBI). Original notice of this access was published in the Federal Register on May 18, 2012.

DATES: Access to the confidential data began on April 30, 2012.

FOR FURTHER INFORMATION CONTACT: For technical information contact: Scott Sherlock, Environmental Assistance Division (7408M), Office of Pollution Prevention and Toxics, Environmental Protection Agency, 1200 Pennsylvania Ave. NW., Washington, DC 20460-0001; telephone number: (202) 564-8257; email address: sherlock.scott@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the agency taking?

Under a variety of EPA contracts, Student Services Contractors are continuing to assist the Office of Science Policy (OSP), Office of Research and Development (ORD) in research on the impact of hydraulic fracturing on drinking water resources. This includes analysis of data from nine hydraulic fracturing companies and nine well owner/operators. In time other Student Services Contractors will be involved in this activity under different contract order numbers. Original notice of this type access was published in the Federal Register on May 18, 2012 (77 FR 29635; FRL-9349-8). No further notice will be given for these entities'/persons' clearances.

In accordance with 40 CFR 2.306(j), EPA has determined that Student Services Contractors required access to CBI submitted to EPA under all sections of TSCA to perform successfully the duties specified under the contract. Student Services Contractors' personnel were given access to information submitted to EPA under all sections of TSCA. Some of the information may have been claimed or determined to be CBI.

EPA is issuing this notice again to inform all submitters of information under all sections of TSCA that EPA has provided Student Services Contractors access to these CBI materials on a need-to-know basis only. All access to TSCA CBI under this contract is taking place at EPA Headquarters in accordance with EPA's TSCA CBI Protection Manual and, as required for successful performance of this contract, other authorized locations.

Access to TSCA data, including CBI, under these contracts will continue until December 31, 2016.

Student Services Contractors' personnel have signed nondisclosure agreements and were briefed on appropriate security procedures before they were permitted access to TSCA CBI. All Student Services Contractors personnel will comply with TSCA CBI access requirements before being given access to these materials.

Authority: 15 U.S.C. 2601 et seq.

Dated: October 29, 2014.
Pamela S. Myrick,
Acting Director, Information Management Division, Office of Pollution Prevention and Toxics.

[FR Doc. 2014-26525 Filed 11-6-14; 8:45 am]

BILLING CODE 6560-50-P